FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012154-002.

Title: APL/Hamburg Süd Space Charter Agreement.

Parties: APL Co. Pte, Ltd. and American President Lines, Ltd. (acting as one party); and Hamburg Süd KG.

Filing Party: Wayne R. Rohde, Esq.; Cozen O'Connor; 1627 I Street NW., Suite 1100; Washington, DC 20006.

Synopsis: The amendment revises the number of slots to be provided by APL to Hamburg Sud, reflects the transition of APL's service string from the New World Alliance to the G6, and otherwise updates the agreement.

Agreement No.: 012184-002.

Title: Crowley/Maersk Line Panama-U.S. Space Charter Agreement.

Parties: Crowley Latin America Services, LLC and A.P. Moller-Maersk A/S.

Filing Party: Wayne R. Rohde, Esq.; Cozen O'Connor; 1627 I Street NW., Suite 1100; Washington, DC 20006.

Synopsis: The amendment adds the southbound trade to the geographic scope of the agreement (which had formerly covered the northbound trade only), and provides for the chartering of space in the southbound trade.

Agreement No.: 012204-002.

Title: ELJSA-Hanjin Shipping Slot Exchange Agreement.

Parties: Evergreen Line Joint Service Agreement and Hanjin Shipping Co. Ltd.

Filing Party: Paul M. Keane, Esq.; Cichanowicz, Callan, Keane, Vengrow and Textor, LLP; 61 Broadway, Suite 3000; New York, NY 10006.

Synopsis: The amendment would increase the amount of space being allocated between the parties, revise language in the agreement, and make other formatting changes to the agreement.

Agreement No.: 012274.

Title: OVSA/PIL Space Charter Agreement.

Parties: Hamburg Sud; Hapag-Lloyd AG; CMA CGM S.A.; and Pacific International Lines (Pte) Ltd.

Filing Party: Wayne R. Rohde, Esq.; Cozen O'Connor; 1627 I Street NW., Suite 1100; Washington, DC 20006.

Synopsis: The agreement authorizes Hamburg Sud, Hapag-Lloyd, and CMA to charter space to PIL in the trade from the U.S. West Coast, on the one hand, to Australia and New Zealand, on the other hand.

Agreement No.: 012275.

Title: ELJSA/K-Line Slot Exchange Agreement.

Parties: Evergreen Line Joint Service Agreement and Kawasaki Kisen Kaisha, Ltd.

Filing Party: Paul M. Keane, Esq.; Cichanowicz, Callan, Keane, Vengrow and Textor, LLP; 61 Broadway, Suite 3000; New York, NY 10006.

Synopsis: The agreement authorizes the parties to exchange space on their respective services in the trade between China, Hong Kong, Taiwan, and Singapore, on the on hand, and the U.S. East Coast, on the other hand.

Agreement No.: 012276.

Title: Hapag-Lloyd/Zim Mediterranean Slot Exchange Agreement.

Parties: Hapag-Lloyd AG and Zim Integrated Shipping Services, Ltd.

Filing Party: Wayne Rohde, Esq.; Cozen O'Connor; 1627 I Street NW., Suite 1100; Washington, DC 20006.

Synopsis: The agreement would authorize the parties to exchange space on their respective services between the U.S. and the Mediterranean.

Agreement No.: 012277.

Title: COSCON/WHL Slot Charter Agreement.

Parties: COSCO Container Lines Company, Limited and Wan Hai Lines (Singapore) Pte. Ltd.

Filing Party: Eric. C. Jeffrey, Esq. and Lindsey M. Nelson; Nixon Peabody LLP; 401 9th Street NW., Suite 900; Washington, DC 20004.

Synopsis: The agreement authorizes the parties to charter slots to each other in the trade between the U.S. West Coast, on the one hand, and China, Hong Kong, and Japan, on the other hand.

Agreement No.: 012278.

Title: ELJSA/YMUK Line Slot Exchange Agreement.

Parties: Evergreen Line Joint Service Agreement and Yang Ming (U.K.) Ltd.

Filing Party: Paul M. Keane, Esq.; Cichanowicz, Callan, Keane, Vengrow and Textor, LLP; 61 Broadway, Suite 3000; New York, NY 10006.

Synopsis: The agreement authorizes the parties to exchange space on their respective services in the trade between China, Hong Kong, Taiwan, and Singapore, on the on hand, and the U.S. East Coast, on the other hand.

Agreement No.: 201203-004.

Title: Port of Oakland/Oakland Marine Terminal Operator Agreement.

Parties: Ports America Outer Harbor Terminal, LLC; Port of Oakland; Seaside Transportation Service LLC; SSA Terminals (Oakland), LLC; SSA Terminals, LLC; and Trapac, Inc.

Filing Party: David F. Smith, Esq.; Cozen O'Connor; 1627 I Street NW., Suite 1100; Washington, DC 20006.

Synopsis: The amendment deletes Eagle Marine Services, Ltd. and Total Terminals International, LLC as parties to the agreement.

Dated: May 9, 2014.
By Order of the Federal Maritime Commission.
Rachel E. Dickon,
Assistant Secretary.

[FR Doc. 2014-11061 Filed 5-13-14; 8:45 am]

BILLING CODE 6730-01-P